NATIONAL CREDIT UNION ADMINISTRATION

Sunshine Act Meeting

TIME AND DATE: 11:00 a.m., Tuesday, June 6, 2000.

PLACE: Board Room, 7th Floor, Room 7047 1775 Duke Street, Alexandria, VA 22314-3428.

STATUS: Open.

MATTERS TO BE CONSIDERED:

1. Proposed IRPS 00-1, Amendments to NCUA's Chartering and Field of Membership Policies.

2. Request from a Federal Credit Union to Convert to a Community Charter.

3. Request from a Credit Union to Merge into a Federal Mutual Savings Association.

4. Proposed Rule: Amendments to Part 792, Subparts C & E, NCUA's Rules and Regulation, Privacy Act.

5. Proposed Rule: Appendix to Part 748, NCUA's Rules and Regulations, Privacy of Consumer Financial Information.

6. Final Rule: Amendments to Sections 716.4 and 716.7, NCUA's Rules and Regulations, Privacy of Consumer Financial Information.

7. Advance Notice of Proposed Rulemaking: Predatory Lending.

RECESS: 1:00 p.m.

TIME AND DATE: 2:30 p.m., Tuesday, June 6, 2000.

PLACE: Board Room, 7th Floor, Room 7047 1775 Duke Street, Alexandria, VA 22314-3428.

STATUS: Closed.

MATTERS TO BE CONSIDERED:

1. Field of Membership Appeal. Closed pursuant to exemptions (8) and (9)(A)(ii).

2. One (1) Personnel Matter. Closed pursuant to exemptions (2) and (6).

FOR FURTHER INFORMATION CONTACT: Becky Baker, Secretary of the Board, Telephone 703-518-6304.

Becky Baker,
Secretary of the Board.

[FR Doc. 00-13932 Filed 5-31-00; 10:02 am]

BILLING CODE 7535-01-M